ENVIRONMENTAL PROTECTION AGENCY

[EPA-HQ-OPP-2023-0074; FRL-11422-01-OCSPP]

Cancellation Order for Certain Pesticide Registrations and Amendments To Terminate Uses

AGENCY: Environmental Protection Agency (EPA).

ACTION: Notice.

SUMMARY: This notice announces EPA's order for the cancellations and amendments to terminate uses, voluntarily requested by the registrants, and accepted by the Agency, pursuant to the Federal Insecticide, Fungicide, and Rodenticide Act (FIFRA). This cancellation order follows a July 28, 2023, Federal Register Notice of Receipt of Requests from the registrants listed in Table 3 of Unit II, to voluntarily cancel and amend to terminate uses of all these product registrations. In the July 28, 2023, notice, EPA indicated that it would issue an order implementing the cancellations and amendments to terminate uses, unless the Agency received substantive comments within the 30-day comment period that would merit its further review of these requests, or unless the registrants withdrew their requests. The Agency did not receive any comments on the notice. Further, the registrants did not withdraw their requests. Accordingly, EPA hereby issues in this notice a cancellation order granting the requested cancellations and amendments to terminate uses. Any distribution, sale, or use of the products subject to this cancellation order is permitted only in accordance with the terms of this order, including any existing stocks provisions.

DATES: This order is effective February 23, 2024.

FOR FURTHER INFORMATION CONTACT: Christopher Green, Registration Division (7505T), Office of Pesticide Programs, Environmental Protection Agency, 1200 Pennsylvania Ave. NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2023-0074, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-1744. Please review the visitor instructions and additional information about the docket available at https://www.epa.gov/dockets.

II. What action is the Agency taking?

This notice announces the cancellations and amendments to terminate uses, as requested by registrants, of products registered under FIFRA section 3 (7 U.S.C. 136a). These registrations are listed in sequence by registration number in Tables 1, 1A, 1B and 2 of this unit.

Table 1—Product Cancellations
Registration No. | Company No. | Product name | Active ingredients
9688-168 | 9688 | Chemsico RTU Herbicide G II | Glyphosate-isopropylammonium (103601/38641-94-0)—(1.92%).
9688-169 | 9688 | Chemsico RTU Herbicide G 1 | Glyphosate-isopropylammonium (103601/38641-94-0)—(.96%).
9688-177 | 9688 | Chemsico Concentrate Herbicide G 1 | Glyphosate-isopropylammonium (103601/38641-94-0)—(18%).
9688-178 | 9688 | Chemsico Concentrate Herbicide G II | Glyphosate-isopropylammonium (103601/38641-94-0)—(41%).
9688-189 | 9688 | Chemsico Concentrate Herbicide G III | Glyphosate-isopropylammonium (103601/38641-94-0)—(25%).
34704-1150 | 34704 | LPI.A004 | Trinexapac-ethyl (112602/95266-40-3)—(12%).
87373-117 | 87373 | ARG Mancozeb MUP | Mancozeb (014504/8018-01-7)—(86.2%).
CA-040002 | 54555 | Dormex | Cyanamide (014002/420-04-2)—(50%).
OR-100015 | 2749 | Shield Emulsifiable Concentrate | Chlorpropham (018301/101-21-3)—(36%).

Table 1A—Product Cancellations
Registration No. | Company No. | Product name | Active ingredients
264-334 | 264 | Sevin Brand RP2 Carbaryl Insecticide | Carbaryl (056801/63-25-2)—(22.5%).
264-335 | 264 | Sevin Brand RP4 Carbaryl Insecticide | Carbaryl (056801/63-25-2)—(43%).
264-429 | 264 | Sevin Brand Granular Carbaryl Insecticide | Carbaryl (056801/63-25-2)—(7%).
432-982 | 432 | Sevin Brand 97.5% Insecticide | Carbaryl (056801/63-25-2)—(97.5%).
432-1209 | 432 | R & M Garden Dust 5% | Carbaryl (056801/63-25-2)—(5%).
432-1210 | 432 | R & M Garden Dust 10% | Carbaryl (056801/63-25-2)—(10%).
432-1211 | 432 | CP Carbaryl Insecticide Spray—RTU | Carbaryl (056801/63-25-2)—(.126%).
432-1212 | 432 | Sevin Grub Killer Granules (2% Sevin) | Carbaryl (056801/63-25-2)—(2%).
432-1227 | 432 | Sevin SL Carbaryl Insecticide | Carbaryl (056801/63-25-2)—(43%).
432-1511 | 432 | Sevin 4MC Manufacturing Use Concentrate Insecticide | Carbaryl (056801/63-25-2)—(43%).
432-1525 | 432 | Sevin Brand Carbaryl Technical | Carbaryl (056801/63-25-2)—(99.45%).

The registrants of the products listed in Table 1A of Unit II, requested 18 months after cancellation to sell existing stocks.

Table 1B—Product Cancellations
Registration No. | Company No. | Product name | Active ingredients
61483-2 | 61483 | Dura-Treet 40 Wood Preserver | Pentachlorophenol (063001/87-86-5)—(34%).
61483-3 | 61483 | KMG-B Penta OL Technical Penta | Pentachlorophenol (063001/87-86-5)—(86%).
61483-94 | 61483 | KMG-B Penta OL Penta Blocks | Pentachlorophenol (063001/87-86-5)—(86%).
97080-10 | 97080 | Stella-Jones Penta | Pentachlorophenol (063001/87-86-5)—(86%).

The registrants of the products listed in Table 1B of Unit II, requested an effective date of cancellation of February 29, 2024, for the products listed in Table 1B of Unit II.

Table 2—Product Registration Amendments To Terminate Uses
Registration No. | Company No. | Product name | Active ingredient | Uses to be terminated
67690-2 | 67690 | A-Rest Solution | Ancymidol (108601/12771-68-5)—(.0264%) | Interior scape.
94730-3 | 94730 | Bifenthrin Technical | Bifenthrin (128825/82657-04-3)—(98.37%) | Termiticide and Soil Contact Non-Fumigation Treatment, Wood Treatment and Protection, Christmas trees, Conifer Seed Orchards, Nonbearing Fruit and Nut Trees, Greenhouse Grown Ornamental Trees, Shrubs, Plants, Flowers, Outdoor Insect Control, Indoor Insect Control, Residential Lawns, Ornamental Plants, Trees, Shrubs, and Vines (Woody), Turfgrass (including golf courses), Sod Farms & Food Handling Establishments: Places other than private residences in which food is held, processed, prepared, or served.

Table 3 of this unit includes the names and addresses of record for all registrants of the products in Tables 1, 1A, 1B and 2 of this unit, in sequence by EPA company number. This number corresponds to the first part of the EPA registration numbers of the products listed above.

Table 3—Registrants of Cancelled and/or Amended Products
EPA company no. | Company name and address
264 | Bayer CropScience, LP, Agent Name: Bayer CropScience, LLC, 801 Pennsylvania Avenue, Suite 900, Washington, DC 20004.
432 | Bayer Environmental Science, A Division of Bayer CropScience, LP, 700 Chesterfield Parkway West, Chesterfield, MO 63017.
9688 | Chemsico, A Division of United Industries Corp., P.O. Box 142642, St. Louis, MO 63114-0642.
2749 | Aceto Life Sciences, LLC, 4 Tri Harbor Court, Port Washington, NY 11050-4661.
34704 | Loveland Products, Inc., P.O. Box 1286, Greeley, CO 80632-1286.
54555 | Alzchem Trostberg GmbH, Agent Name: Alzchem, LLC, 11390 Old Roswell Road, St. 124, Alpharetta, GA 30009.
61483 | KMG-Bernuth, Inc., 300 Throckmorton, Suite 1900, Fort Worth, TX 76102.
67690 | Sepro Corporation, 11550 N Meridian Street, Suite 600, Carmel, IN 46032.
87373 | Argite, LLC, Agent Name: Pyxis Regulatory Consulting, Inc., 4110 136th Street Ct. NW, Gig Harbor, WA 98332.
94730 | Generic Crop Science, LLC, 1887 Whitney Mesa Drive, #9740, Henderson, NV 89014-2069.
97080 | Arbor Preservative Systems, LLC, Agent Name: Lewis & Harrison, 2461 South Clark Street, Suite 710, Arlington, VA 22202.

III. Summary of Public Comments Received and Agency Response to Comments

During the public comment period provided, EPA received no comments in response to the July 28, 2023, Federal Register notice announcing the Agency's receipt of the requests for voluntary cancellations and amendments to terminate uses of products listed in Tables 1, 1A, 1B and 2 of Unit II.

IV. Cancellation Order

Pursuant to FIFRA section 6(f) (7 U.S.C. 136d(f)(1)), EPA hereby approves the requested cancellations and amendments to terminate uses of certain pesticide registrations identified in Tables 1, 1A, 1B and 2 of Unit II. Accordingly, the Agency hereby orders that the product registrations identified in Tables 1, 1A and 2 of Unit II, are canceled and/or amended to terminate the affected uses as of the date of this order. The product registrations identified in Table 1B are cancelled as of February 29, 2024. Any distribution, sale, or use of existing stocks of the products identified in this order in a manner inconsistent with any of the provisions for disposition of existing stocks set forth in Unit VI, will be a violation of FIFRA.

V. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of July 28, 2023 (88 FR 48842) (FRL-10886-01-OCSPP). The comment period closed on August 28, 2023.

VI. Provisions for Disposition of Existing Stocks

Existing stocks are those stocks of registered pesticide products which are currently in the United States, and which were packaged, labeled, and released for shipment prior to the effective date of the action. The existing stocks provisions for the products subject to this order are as follows:

A. For: 264-334; 264-335; 264-429; 432-982; 432-1209; 432-1210; 432-1211; 432-1212; 432-1227; 432-1511; and 432-1525

For 264-334; 264-335; 264-429; 432-982; 432-1209; 432-1210; 432-1211; 432-1212; 432-1227; 432-1511; and 432-1525, listed in Table 1A of Unit II, the registrants requested a period of 18 months after the effective date of the cancellation to sell and distribute existing stocks of products, which will be the date of publication of the cancellation order in the Federal Register. Registrants are permitted to sell or distribute products listed in Table 1A, until August 25, 2025. Thereafter, registrants will be prohibited from selling or distributing the products identified in Table 1A of Unit II, except for export consistent with FIFRA section 17 (7 U.S.C. 136o) or for proper disposal.

B. For: 61483-2; 61483-3; 61483-94; and 97080-10

For 61483-2; 61483-3; 61483-94; and 97080-10, listed in Table 1B of Unit II, the registrants requested an effective date of cancellation of February 29, 2024. The Notice of Receipt of Requests for Voluntary Cancellations from July 28, 2023, incorrectly stated that pentachlorophenol registrants would be able to sell and distribute existing stocks for 1 year after the effective date of the cancellation and that non-registrant distributors and end-users would be permitted to continue to sell, distribute and use pentachlorophenol products until supplies are exhausted. However, due to the unreasonable adverse effects identified during the registration review of pentachlorophenol, EPA determined that registrants and non-registrants must cease sale and distribution of pentachlorophenol products simultaneously with the cancellation of those products. Therefore, as of February 29, 2024, all sale and distribution of the products identified in Table 1B of Unit II, is prohibited, except for export consistent with FIFRA section 17 (7 U.S.C. 136o) or for proper disposal.

EPA is permitting end-users to continue to use existing stocks of pentachlorophenol products, as long as that use is consistent with labeling on the existing stocks, until February 28, 2027, after which all use is prohibited, even if not all existing stocks are exhausted by this time. Therefore, after February 28, 2027, all use of the products identified in Table 1B of Unit II, is prohibited.

This timeline is consistent with the final registration review decision for pentachlorophenol, which prohibits the sale or distribution of these products upon cancellation (February 29, 2024) and allows for an additional three years for use of existing stocks of pentachlorophenol product (until February 28, 2027). Documents pertaining to the registration review of pentachlorophenol can be found in https://www.regulations.gov in Docket ID EPA-HQ-OPP-2014-0653.

Section 6(a)(1) of FIFRA gives EPA the discretion to permit the continued sale and use of existing stocks of a pesticide whose registration is cancelled where doing so is determined to be consistent with the purposes of FIFRA 7 U.S.C. 136d(a)(1). In the case of the pentachlorophenol registrations subject to this order, allowing for continued use or sale after the dates discussed in the previous paragraph would not be consistent with FIFRA; therefore, EPA is not allowing for continued sale, distribution, or use of pentachlorophenol products after the dates listed above.

C. For: Products Listed in Tables 1 and 2

For the products listed in Table 1 of Unit II, the registrants may continue to sell and distribute existing stocks of products listed in Table 1 until February 24, 2025, which is 1 year after publication of this cancellation order in the Federal Register. Thereafter, the registrants are prohibited from selling or distributing products listed in Table 1 of Unit II, except for export in accordance with FIFRA section 17 (7 U.S.C. 136o) or for proper disposal.

Now that EPA has approved product labels reflecting the requested amendments to terminate uses, registrants are permitted to sell or distribute products listed in Table 2 of Unit II, under the previously approved labeling until August 25, 2025, a period of 18-months after publication of the cancellation order in this Federal Register. Thereafter, registrants will be prohibited from selling or distributing the products whose labels include the terminated uses identified in Table 2 of Unit II, except for export consistent with FIFRA section 17 or for proper disposal.

Persons other than the registrant may sell, distribute, or use existing stocks of the products listed in Tables 1 and 2 until supplies are exhausted, provided that such sale, distribution, or use is consistent with the terms of the previously approved labeling on, or that accompanied, the respective products.

Authority: 7 U.S.C. 136 et seq.

Dated: February 6, 2024.
Charles Smith,
Director, Registration Division, Office of Pesticide Programs.

[FR Doc. 2024-03729 Filed 2-22-24; 8:45 am]

BILLING CODE 6560-50-P